DEPARTMENT OF THE INTERIOR

U.S. Geological Survey

[USGS—GX15GL00DT7ST00]

Agency Information Collection Activities: Request for Comments

AGENCY: U.S. Geological Survey (USGS), Interior.

ACTION: Notice of revision of a currently approved information collection (1028-0087).

SUMMARY: We (the U.S. Geological Survey) are notifying the public that we have submitted to Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on September 30, 2015.

DATES: To ensure that your comments on this ICR are considered, OMB must receive them on or before July 20, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0087 National Geological and Geophysical Data Preservation Program'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0087: National Geological and Geophysical Data Preservation Program' in all correspondence.

FOR FURTHER INFORMATION CONTACT: Betty Adrian at (303) 202-4828 or by mail at U.S. Geological Survey, Box 25046, MS 975, Denver Federal Center, Denver, CO 80225, or by email at badrian@usgs.gov. You may also find information about this ICR at www.reginfo.gov.

SUPPLEMENTARY INFORMATION:

I. Abstract

This notice concerns the collection of information that is sufficient and relevant to evaluate and select proposals for funding under the NGGDPP. We will accept proposals from State geological surveys requesting funds to (1) inventory, assess, and preserve the condition of geoscientific collections and individual physical samples, (2) create metadata for individual samples and collections, (3) create or update digital infrastructure, including data migration to contemporary formats to assure data are not lost due to recording media degradation or changing data recording formats or software programs; and (4) rescue data at risk. Financial assistance will be awarded annually on a competitive basis following the evaluation and ranking of State proposals by a review panel composed of representatives from the Department of the Interior, State geological surveys, academic institutions, and the private sector. To submit a proposal, respondents must complete a project narrative and submit the application via www.grants.gov. Grant recipients must complete a final technical report at the end of the project period. Narrative and report guidance is available through http://datapreservation.usgs.gov and at www.grants.gov.

II. Data

OMB Control Number: 1028-0087.

Form Number: not applicable.

Title: National Geological and Geophysical Data Preservation Program (NGGDPP).

Type of Request: Revision of a currently approved information collection.

Respondent Obligation: Voluntary, but necessary to receive benefits.

Frequency of Collection: Annually.

Description of Respondents: All State Geological Surveys will have the opportunity to apply for matching Federal funds.

Estimated Total Number of Annual Responses: 59 (32 applications and 27 reports).

Estimated Time per Response: We estimate that it will take 42 hours per person to fill out and submit an application requesting financial assistance and provide a final report.

Estimated Annual Burden Hours: 1,324 burden hours. We expect to receive approximately 32 applications. It takes each applicant approximately 38 hours to complete the narrative and to present supporting documents. This includes the time for project conception and development, proposal writing and reviewing, and submitting the proposal application through Grants.gov (totaling 1,324 burden hours). We anticipate awarding 27 grants per year. The award recipients must submit a final report. We estimate that it will take approximately 4 hours to complete the requirement for the final report (totaling 108 hours).

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On March 24, 2015, we published a Federal Register notice 80 FR 15631 announcing that we would submit this ICR to OMB for approval and soliciting comments. The comment period closed on May 26, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Betty M. Adrian,
Program Coordinator, National Geological and Geophysical Data Preservation Program.

[FR Doc. 2015-15073 Filed 6-18-15;8:45 am]

BILLING CODE 4311-AM-P